DEPARTMENT OF ENERGY

Southeastern Power Administration

Proposed Rate Adjustment for the Jim Woodruff Project

AGENCY: Southeastern Power Administration, DOE.

ACTION: Notice of public hearing and opportunities for review and comment.

SUMMARY: Southeastern Power Administration (Southeastern) proposes new rate schedules JW-1-G and JW-2-D to replace Wholesale Power Rate Schedules JW-1-F and JW-2-C for a three-year period from September 20, 2002 to September 19, 2005. Rate schedule JW-1-G is applicable to Southeastern power sold to existing preference customers in the Florida Power Corporation Service area. Rate schedule JW-2-D is applicable to Florida Power Corporation.

Opportunities will be available for interested persons to review the present rates, the supporting studies and to participate in a hearing and to submit written comments. Southeastern will evaluate all comments received in this process.

DATES: Written comments are due on or before July 10, 2002. A public information and public comment forum will be held at the Doubletree Hotel Tallahassee, in Tallahassee, Florida, at 10:00 a.m. on May 16, 2002. Persons desiring to speak at the forum must notify Southeastern at least seven (7) days before the forum is scheduled so that a list of forum participants can be prepared. Others present may speak if time permits. Persons desiring to attend the forum should notify Southeastern at least seven (7) days before the forum is scheduled. If Southeastern has not been notified by close of business on May 9, 2002, that at least one person intends to be present at the forum, the forum will be canceled with no further notice.

ADDRESSES: Written comments should be submitted to: Charles Borchardt, Administrator, Southeastern Power Administration, Department of Energy, 1166 Athens Tech Road, Elberton, Georgia 30635-6711. The public comment Forum will meet at the Doubletree Hotel Tallahassee, 101 South Adams Street, Tallahassee, Florida, Phone (850) 224-5000.

FOR FURTHER INFORMATION CONTACT: Leon Jourolmon, Assistant Administrator, Finance and Marketing Division, Southeastern Power Administration, Department of Energy, 1166 Athens Tech Road, Elberton, Georgia 30635-6711, (706)213-3800.

SUPPLEMENTARY INFORMATION: Existing rate schedules are supported by a May 2000 Repayment Study and other supporting data contained in FERC Docket No. EF00-3031-000. A repayment study prepared in March 2002 shows that the existing rates are not adequate to meet repayment criteria. A revised repayment study with a revenue increase of $331,000, or 5.7 percent, demonstrates that all costs are paid within their repayment life. The increase is primarily due to purchased power expenses associated with the rehabilitation of the project. Southeastern is proposing to raise rates to recover this additional $331,000.

In the proposed rate schedule JW-1-G, which is available to preference customers, the capacity charge has been raised from $5.51 per kilowatt per month to $5.79 per kilowatt per month. The energy charge has been increased from 15.46 mills per kilowatt-hour to 16.25 mills per kilowatt-hour. Rate schedule JW-2-D, available to Florida Power Corporation, raises the rate from 63 percent of the Company's fuel cost to 70 percent of the Company's fuel cost.

The studies are available for examination at 1166 Athens Tech Road, Elberton, Georgia, 30635-6711, as is the 2000 repayment study and the proposed Rate Schedules.

Dated: March 27, 2002.
Charles A. Borchardt,
Administrator.

[FR Doc. 02-8822 Filed 4-10-02; 8:45 am]

BILLING CODE 6450-01-P